Proclamation 10443 of September 9, 2022

National Hispanic-Serving Institutions Week, 2022

By the President of the United States of America

A Proclamation

Today, Hispanic students make up nearly 20 percent of college undergraduates in the United States. They are our future leaders—the next generation of doctors and teachers, entrepreneurs and artists, first responders and scientists, elected officials and activists. Ensuring that these young people are prepared to take on the challenges of tomorrow is critical to the future of our Nation.

That is why this week we celebrate Hispanic-Serving Institutions (HSIs), which foster cultures of belonging and respect on their campuses and offer Hispanic students a nurturing, inclusive environment to learn and grow. Recently, I was pleased to award the Presidential Medal of Freedom to Dr. Julieta García, the first Mexican-American woman to lead the University of Texas at Brownsville, a center of excellence for countless students who have been inspired by her example. Committed to the value of education as a critical tool to uplift an entire community, Dr. García has demonstrated how HSIs can enable student success across the country.

My Administration knows that more needs to be done to support these places of higher learning that stand for the ideals of opportunity, dignity, and respect. Despite their many accomplishments, HSIs have been hit hard in recent years. Data show that Hispanic undergraduate enrollment has fallen by 7 percent since the pandemic began, and for the first time in 20 years, the number of these institutions has declined. That is why we are strengthening our commitment to help HSIs provide a pathway to opportunity and economic mobility for their students.

My Administration has invested approximately $11 billion from our American Rescue Plan to keep students and staff at HSIs safe from the COVID-19 pandemic and provide students emergency grants so they can stay enrolled. I also signed a bill to increase the maximum Pell Grant award by the greatest amount in over a decade, which will help approximately half of all Hispanic students, who depend on Pell Grants to pay for college.

Additionally, to address the financial harms of the pandemic, my Administration is providing up to $20,000 in debt relief as part of a comprehensive effort to address the burden of growing college costs. This action will have a significant impact on Hispanic borrowers, given that among Hispanic undergraduate borrowers, 65 percent receive Pell Grants. My Administration is also working to fix the broken Public Service Loan Forgiveness program by giving public servants—many of whom are educators at HSIs and alumni—appropriate credit toward forgiveness. These proposed changes build on the transformations already made with the Public Service Loan Forgiveness program that expire on October 31, 2022. For more information, please visit PSLF.gov.

I have reestablished the White House Initiative on Advancing Educational Equity, Excellence, and Economic Opportunity for Hispanics. And since my Administration began, the First Lady and the Secretary of Education have visited HSIs across our Nation to support efforts to keep students engaged, enrolled, and moving toward the completion of a degree or certificate.

There is still much more work to be done. We have a long way to go to fulfill the full potential of America, and my Administration sees HSIs as a critical gateway to making that promise a reality. I am proposing that we double the maximum Pell Grant amount by 2029 and continue to make higher education more affordable for all Americans. I am also requesting increased funding from the Congress to help Historically Black Colleges and Universities, Tribal Colleges and Universities, and minority-serving institutions, such as HSIs, expand their research and development infrastructure and strengthen their curricula in science, technology, and agriculture.

Every day, Hispanic Americans contribute immensely to our Nation's economy, security, and culture. It is our duty to ensure that the next generation of Hispanic students can make the most of their God-given talents. During National Hispanic-Serving Institutions Week, we recommit our support for the institutions helping to make this promise a reality.

NOW, THEREFORE, I, JOSEPH R. BIDEN JR., President of the United States of America, by virtue of the authority vested in me by the Constitution and the laws of the United States, do hereby proclaim September 11 through September 17, 2022, as National Hispanic-Serving Institutions Week. I call on public officials, educators, and all the people of the United States to observe this week with appropriate programs, ceremonies, and activities that acknowledge the many ways these institutions and their graduates contribute to our country.

IN WITNESS WHEREOF, I have hereunto set my hand this ninth day of September, in the year of our Lord two thousand twenty-two, and of the Independence of the United States of America the two hundred and forty-seventh.

[FR Doc. 2022-20004

Filed 9-13-22; 8:45 am]

Billing code 3395-F2-P